DEPARTMENT OF ENERGY

Office of Energy Efficiency and Renewable Energy

Energy Efficiency and Conservation Block Grant Program: Funding Opportunity Announcement (DE-FOA-0000013)

AGENCY: Office of Energy Efficiency and Renewable Energy, Department of Energy.

ACTION: Notice of application deadline guideline.

SUMMARY: This notice advises the public that applications under the Funding Opportunity Announcement (DE-FOA-0000013) for the formula grants of the Energy Efficiency and Conservation Block Grant (EECBG) Program of the American Recovery and Reinvestment Act of 2009 will not be accepted after June 25, 2010.

DATES: Eligible entities that have not submitted an application for a formula allocation under the program to date may submit an application to DOE by 11:59 p.m., ET, June 25, 2010.

FOR FURTHER INFORMATION CONTACT: Johanna Zetterberg, U.S. Department of Energy, Office of Energy Efficiency and Renewable Energy, Weatherization and Intergovernmental Program, EE-2K, 1000 Independence Avenue, SW., Washington, DC 20585-0121, (202) 586-8778 or e-mail: Johanna.Zetterberg@ee.doe.gov.

SUPPLEMENTARY INFORMATION:

I. Background

II. Extension of the FOA Application Deadlines

III. Application Information for Eligible Entities

I. Background

The Energy Efficiency and Conservation Block Grant (EECBG) Program was established by the Energy Independence and Security Act of 2007 (Pub. L. 110-140; (EISA)). The EECBG Program provides Federal grants to States, units of local government, Indian Tribes, and consortia of these entities to reduce energy use and fossil fuel emissions, and for energy efficiency programs and projects. (42 U.S.C. 17152) Generally, the EECBG Program provides for formula grants to States, cities and counties of specified populations, and specified Indian Tribes (collectively referred to as “eligible entities”). (42 U.S.C. 17153(a)) Entities eligible for a formula grant and their funding allocations are published on DOE's Web site at http://www.eecbg.energy.gov/. The EECBG Program is administered by the Office of Energy Efficiency and Renewable Energy (EERE) of the U.S. Department of Energy (DOE).

The American Recovery and Reinvestment Act of 2009 (Pub. L. 111-5; ARRA) appropriated $3.2 billion to DOE to implement the program. DOE initially provided $2.741 billion for formula grants from the ARRA appropriations. The distribution was determined using the most recent and accurate population data available, as follows:

• 68 percent to eligible units of local government;

• 28 percent to States through formula grants;

• Two percent to Indian Tribes through formula grants; and

• Two percent for competitive grants to ineligible cities, counties, and Indian Tribes.

(42 U.S.C. 17153(a); see also 74 FR 17146 (April 15, 2009) available at (http://www1.eere.energy.gov/wip/pdfs/eecbg_federal_register_notice_04_15_09.pdf).

In June 2009, DOE established an appeals process regarding eligibility determinations. (74 FR 30061; June 24, 2009). The deadline for filing appeals regarding eligibility determinations for direct formula grants for units of local government under the EECBG Program was July 24, 2009. Appeals were reviewed and adjudicated by DOE's Office of Hearings and Appeals (OHA), and decisions were issued from July 23, 2009, through September 15, 2009. Thirty one appeals were granted, six appeals were denied, and one was dismissed. All case decisions are available at http://www.oha.doe.gov/EECBG/report.asp. For detailed information regarding issues that could be appealed, the process for filing an appeal, and the procedure applicable to adjudicate such appeals, see the notice available at http://www.oha.doe.gov/EECBG/EECBG.asp.

The total number of eligible entities under the EECBG Program, including entities that successfully appealed, is 2,359; 56 States (including the District of Columbia, Puerto Rico, Guam, the Mariana Islands, the U.S. Virgin Islands, and American Samoa), 1,258 cities and city-equivalents, 471 counties and county-equivalents, and 574 Indian Tribes. Under ARRA, all EECBG Program funds from ARRA must be obligated by DOE by September 30, 2010.

II. Extension of the FOA Application Deadlines

DOE issued DE-FOA-0000013 on March 26, 2009, establishing an application deadline for States of May 26, 2009, and for units of local government and Indian Tribes of June 25, 2009. The FOA specifically stated that applications received after the deadline would not be reviewed or considered for award. However, DOE issued amendment 003 on May 11, 2009, establishing an application deadline for all applicants of June 25, 2009. DOE issued amendment 005 on June 25, 2009, establishing a deadline of August 10, 2009. This notice is to inform eligible entities that an amended deadline for applications for formula funding under the EECBG Program of June 25, 2010 has been established. Applications not received by this date will not be reviewed or considered for award.

If there are any funds remaining upon closure of DE-FOA-0000013 for formula grants to eligible entities, DOE will reallocate the remaining funds consistent with the EECBG statutory formula.

III. Application Information for Eligible Entities

Eligible entities that have not submitted an application for a formula allocation under the program to date may submit an application to DOE by 11:59 p.m., ET, June 25, 2010. Applicants must follow all registration and submission requirements and instructions in DE-FOA-0000013.

DOE encourages eligible entities that do not intend to apply for an allocation to submit a Letter of Intent. Letters of Intent are not required. However, if you are an eligible entity in accordance with section 541, Subtitle E of EISA of 2007 and do not intend to apply for these funds, please submit an e-mail to EECBG@netl.doe.gov with the subject line: “DE-FOA-0000013—No intention of applying for funding.” In the body of the e-mail message, state that “the following entity: [State/City, State/County, State/Indian Tribe/State] will not be applying for their formula-based funding available under the Energy Efficiency and Conservation Block Grant Program.” Please include a PDF of a letter on the entity's letterhead also stating the intention not to apply for funding with the signature, name and contact information of the authorized individual responsible for this decision.

IV. Approval of the Office of the Secretary

The Secretary of Energy has approved publication of this notice.

Issued in Washington, DC, on May 18, 2010.
Cathy Zoi,
Assistant Secretary, Energy Efficiency and Renewable Energy.

[FR Doc. 2010-12405 Filed 5-21-10; 8:45 am]

BILLING CODE 6450-01-P